DEPARTMENT OF COMMERCE

International Trade Administration

[A-423-808]

Stainless Steel Plate in Coils From Belgium: Correction to Notice of Final Results of Antidumping Duty Administrative Review

AGENCY: Import Administration, International Trade Administration, Department of Commerce.

DATES: Effective Date: August 3, 2010.

FOR FURTHER INFORMATION CONTACT: Joy Zhang or George McMahon, AD/CVD Operations, Office 3, Import Administration, International Trade Administration, U.S. Department of Commerce, 14th Street and Constitution Avenue, NW., Washington DC 20230; telephone: (202) 482-1168 or (202) 482-1167, respectively.

SUPPLEMENTARY INFORMATION:

Correction

On October 19, 2009, the Department of Commerce (“the Department”) published in the Federal Register the following notice: Stainless Steel Plate in Coils From Belgium: Final Results of Antidumping Duty Administrative Review, 74 FR 53468 (October 19, 2009) (“Final Results”). Subsequent to the publication of the notice in the Federal Register, we identified an inadvertent error in the Final Results. The Department made an error in the “Cash Deposit Requirements” section of the notice, by inadvertently including an incorrect “all others” rate for exporters and/or manufacturers not covered by the review for which the Final Results were published. Specifically, the “all others” rate should have been listed as 8.54 percent pursuant to the implementation of the findings of the World Trade Organization (“WTO”) Panel in US—Zeroing (EC). See Implementation of the Findings of the WTO Panel in US—Zeroing (EC): Notice of Determinations Under Section 129 of the Uruguay Round Agreements Act and Revocations and Partial Revocations of Certain Antidumping Duty Orders, 72 FR 25261 (May 4, 2007). For reference, below is the corrected paragraph regarding the “all others” rate discussed in the Final Results.

Cash Deposit Requirements

The following antidumping duty deposit rates will be effective upon publication of the final results of this administrative review for all shipments of stainless steel plate in coils (“SSPC”) from Belgium entered, or withdrawn from warehouse, for consumption on or after the publication date of these final results, as provided for by section 751(a)(1) of the Tariff Act of 1930, as amended (“the Act”): (1) For AMS Belgium, the cash deposit rate will be the rate established in the final results of this review; (2) if the exporter is not a firm covered in this review, but was covered in a previous review or the original less-than-fair-value (“LTFV”) investigation, the cash deposit rate will continue to be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate will be 8.54 percent ad valorem, the “all-others” rate established in the implementation of the findings of the WTO Panel in US—Zeroing (EC). See Implementation of the Findings of the WTO Panel in US—Zeroing (EC): Notice of Determinations Under Section 129 of the Uruguay Round Agreements Act and Revocations and Partial Revocations of Certain Antidumping Duty Orders, 72 FR 25261 (May 4, 2007). These cash deposit rates shall remain in effect until further notice.

Conclusion

The Department clarifies that the “Cash Deposit Requirements” section of the Final Results inadvertently listed the “all others” rate as 9.86 percent and that the correct “all others” rate is 8.54 percent. The Department intends to issue revised cash deposit instructions to U.S. Customs and Border Protection (CBP) for entries made during the period of review of May 1, 2007, through April 30, 2008, which includes the corrected “all others” rate of 8.54 percent.

This notice is issued and published in accordance with sections 751(a)(1) and 777(i)(1) of the Act.

Dated: July 27, 2010.
Paul Piquado,
Acting Deputy Assistant Secretary for Import Administration.

[FR Doc. 2010-19064 Filed 8-2-10; 8:45 am]

BILLING CODE 3510-DS-P